DEPARTMENT OF HOMELAND SECURITY

Coast Guard

33 CFR Part 100

[Docket No. USCG-2024-0962]

Special Local Regulations; Marine Events Within the Captain of the Port Charleston Zone

AGENCY: Coast Guard, DHS.

ACTION: Notification of enforcement of regulation.

SUMMARY: The Coast Guard will enforce the special local regulation to provide for the safety and security of certain navigable waterways of Charleston Harbor during the Charleston Parade of Boats. Our regulation for marine events within the Captain of the Port Charleston identifies the regulated area for this event in Charleston Harbor, SC. During the enforcement periods, no person or vessel may enter, transit through, anchor in, or remain within the designated area unless authorized by the Captain of the Port Charleston (COTP) or a designated representative.

DATES: The regulations in 33 CFR 100.704 will be enforced for the location identified in Table 1 to § 100.704, Item 10, from 5 p.m. until 8 p.m. on December 14, 2024.

FOR FURTHER INFORMATION CONTACT: If you have questions about this notification of enforcement, call or email Chief, Marine Science Technician Tyler Campbell, Sector Charleston Waterways Management Division, U.S. Coast Guard; telephone (843) 740-3184, email charlestonwaterways@uscg.mil.

SUPPLEMENTARY INFORMATION: The Coast Guard will enforce the special local regulation in 33 CFR 100.704, Table 1 to § 100.704, Item 10, for the Charleston Parade of Boats from 5 p.m. until 8 p.m. on December 14, 2024. This action is being taken to provide for the safety of life on navigable waterways during this event. Our regulation for marine events within the Captain of the Port Charleston, Table 1 to § 100.704, item 10, specifies the location of the regulated area for the Charleston Parade of Boats which encompasses portions of the Charleston Harbor including Anchorage A, Shutes Folly, Horse Reach, Hog Island Reach, Town Creek Lower Reach, Ashley River, and finishing at City Marina. During the enforcement periods, as reflected in 33 CFR 100.704(c), if you are the operator of a vessel in the regulated area you must comply with directions from the Patrol Commander or any official patrol vessel.

In addition to this notice of enforcement in the Federal Register, the Coast Guard plans to provide notification of this enforcement period via the Local Notice to Mariners, Broadcast Notice to Mariners, and on-scene designated representatives.

Dated: November 26, 2024.
F.J. Delrosso,
Captain, U.S. Coast Guard, Captain of the Port Charleston.

[FR Doc. 2024-28340 Filed 12-3-24; 8:45 am]

BILLING CODE 9110-04-P